DEPARTMENT OF ENERGY

Federal Energy Regulatory Commission

[Docket No. RP03-98-000]

CenterPoint Energy—Mississippi River Transmission Corp.; Notice of Proposed Changes in FERC Tariff

November 26, 2002.

Take notice that on November 22, 2002, CenterPoint Energy—Mississippi Transmission Corporation (MTT) tendered for filing as part of its FERC Gas Tariff, Third Revised Volume No. 1, the following tariff sheet to be effective on December 31, 2002:

First Revised Sheet No. 254

MTT states that the purpose of this filing is to comply with the Commission's October 31, 2002 “Order on Remand” issued in Docket No. RM98-10-011.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-30730 Filed 12-3-02; 8:45 am]

BILLING CODE 6717-01-P